DEPARTMENT OF TRANSPORTATION

Federal Aviation Administration

14 CFR Part 71

[Docket No. FAA-2019-1105; Airspace Docket No. 19-AGL-17]

RIN 2120-AA66

Amendment of Multiple Air Traffic Service (ATS) Routes in the Northcentral United States

AGENCY: Federal Aviation Administration (FAA), DOT.

ACTION: Final rule.

SUMMARY: This action amends VHF Omnidirectional Range (VOR) Federal airways V-13, V-55, and V-505, and Area Navigation (RNAV) route T-354 in the Northcentral United States. The modifications are necessary due to the planned decommissioning of the VOR portion of the Siren, WI, VOR/Distance Measuring Equipment (VOR/DME) navigation aid (NAVAID) which provides navigation guidance for portions of the affected air traffic service (ATS) routes. The Siren VOR is being decommissioned as part of the FAA's VOR Minimum Operational Network (MON) program.

The VOR Federal airway V-15, V-26, V-78, V-100, V-159, V-175, V-219, and V-307, and Area Navigation (RNAV) route T-285 modifications proposed in the notice of proposed rulemaking (NPRM) require additional coordination and flight inspection activities. As such, those ATS route modifications are removed from this rule. Additionally, the V-55 and T-354 modifications effected by the Park Rapids, MN, VOR/DME proposed in the NPRM also require additional coordination and flight inspection activities, and are removed from this rule, too.

DATES: Effective date 0901 UTC, September 10, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it will modify the route structure as necessary to preserve the safe and efficient flow of air traffic within the National Airspace System.

History

The FAA published a NPRM for Docket No. FAA-2019-1105 in the Federal Register (85 FR 3295; January 21, 2020), amending VOR Federal airways V-13, V-15, V-26, V-55, V-78, V-100, V-159, V-175, V-219, V-307, and V-505, and RNAV routes T-285 and T-354 in the Northcentral United States. The proposed modifications were due to the planned decommissioning of the VOR portion of the Park Rapids, MN, VOR/DME; Siren, WI, VOR/DME; Sioux City, IA, VOR/Tactical Air Navigation (VORTAC); and Huron, SD, VORTAC NAVAIDs. Interested parties were invited to participate in this rulemaking effort by submitting written comments on the proposal. No comments were received.

Subsequent to the NPRM, the FAA determined the VOR Federal airway V-15, V-26, V-55, V-78, V-100, V-159, V-175, V-219, and V-307, and the RNAV route T-285 and T-354 modifications proposed in the NPRM, due to the planned decommissioning of the VOR portion of the Park Rapids, MN, VOR/DME; Sioux City, IA, VORTAC; and Huron, SD, VORTAC NAVAIDs, required additional coordination and flight inspection activities. As a result, those ATS route modifications are removed from this rule and will be reworked in a separate rulemaking action.

VOR Federal airways are published in paragraph 6010(a) and RNAV T-routes are published in paragraph 6011 of FAA Order 7400.11D dated August 8, 2019, and effective September 15, 2019, which is incorporated by reference in 14 CFR 71.1. The VOR Federal airways listed in this document would be subsequently published in the Order.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

Differences From the NPRM

In the NPRM, the FAA proposed amendments to VOR Federal airways V-15, V-26, V-55, V-78, V-100, V-159, V-175, V-219, and V-307, and RNAV routes T-285 and T-354 due to the planned decommissioning of the VOR portion of the Park Rapids, MN, VOR/DME; Sioux City, IA, VORTAC; and Huron, SD, VORTAC NAVAIDs. However, additional coordination and flight inspection activity are required to modify the route segments of these ATS routes that are effected by the Park Rapids VOR/DME, Sioux City VORTAC, and Huron VORTAC. Therefore, the ATS route amendments associated with those three NAVAIDs are not included in this final rule and will be reworked in a separate rulemaking action.

The Rule

The FAA is amending Title 14 Code of Federal Regulations (14 CFR) part 71 by modifying VOR Federal airways V-13, V-55, and V-505, and RNAV route T-354. The planned decommissioning of the VOR portion of the Siren, WI, VOR/DME NAVAID has made this action necessary. The VOR Federal airway changes are outlined below.

V-13: V-13 extends between the McAllen, TX, VOR/DME and the Thunder Bay, ON, Canada, VOR/DME. The airspace outside the United States is excluded. The airway segment overlying the Siren, WI, VOR/DME between the Farmington, MN, VORTAC and the Duluth, MN, VORTAC is removed. The airspace outside the United States continues to be excluded. The unaffected portions of the existing airway remain as charted.

V-55: V-55 extends between the Dayton, OH, VOR/DME and the intersection of the Green Bay, WI, VORTAC 270° and Oshkosh, WI, VORTAC 339° radials; between the Eau Claire, WI, VORTAC and the Siren, WI, VOR/DME; and between the Park Rapids, MN, VOR/DME and the Bismarck, ND, VOR/DME. The airway segment overlying the Siren, WI, VOR/DME between the Eau Claire, WI, VORTAC and the Siren, WI, VOR/DME is removed. The unaffected portions of the existing airway remain as charted.

V-505: V-505 extends between the Des Moines, IA, VORTAC and the International Falls, MN, VOR/DME. The airway segment overlying the Siren, WI, VOR/DME between the Gopher, MN, VORTAC and the Duluth, MN, VORTAC is removed. Additionally, an editorial correction changes the state abbreviation for the Duluth VORTAC listed in the description from “MI” to “MN”. The unaffected portions of the existing airway remain as charted.

The RNAV route change is outlined below.

T-354: T-354 extends between the Park Rapids, MN, VOR/DME and the Siren, WI, VOR/DME. The Siren, WI (RZN), route point listed as “VOR/DME” is changed to “DME”. The unaffected portions of the existing RNAV route remain as charted.

All radials listed in the route descriptions below are unchanged and stated in True degrees.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action of amending VOR Federal airways V-13, V-55, and V-505, and RNAV route T-354, due to the planned decommissioning of the VOR portion of the Siren, WI, VOR/DME NAVAID, qualifies for categorical exclusion under the National Environmental Policy Act and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019 and effective September 15, 2019, is amended as follows:

Paragraph 6010(a) Domestic VOR Federal Airways.

* * * * *

V-13 [Amended]

From McAllen, TX; INT McAllen 060° radial and Corpus Christi, TX, 178° radials; Corpus Christi; INT Corpus Christi 039° and Palacios, TX, 241° radials; Palacios; Humble, TX; Lufkin, TX; Belcher, LA; Texarkana, AR; Rich Mountain, OK; Fort Smith, AR; INT Fort Smith 006° and Razorback, AR, 190° radials; Razorback; Neosho, MO; Butler, MO; Napoleon, MO; Lamoni, IA; Des Moines, IA; Mason City, IA; to Farmington, MN. From Duluth, MN; to Thunder Bay, ON, Canada. The airspace outside the United States is excluded.

* * * * *

V-55 [Amended]

From Dayton, OH; Fort Wayne, IN; Goshen, IN; Gipper, MI; Keeler, MI; Pullman, MI; Muskegon, MI; INT Muskegon 327° and Green Bay, WI, 116° radials; Green Bay; to INT Green Bay 270° and Oshkosh, WI, 339° radials. From Park Rapids, MN; Grand Forks, ND; INT Grand Forks 239° and Bismarck, ND, 067° radials; to Bismarck.

* * * * *

V-505 [Amended]

From Des Moines, IA; Fort Dodge, IA, excluding the airspace at and above 11,000 feet MSL between 27 miles and 64 miles northwest of Des Moines VOR during the time that the Boone MOA is activated; Mason City, IA; INT Mason City 349° and Gopher, MN, 188° radials; to Gopher. From Duluth, MN; INT Duluth 331° and Hibbing, MN, 120° radials; Hibbing; INT Hibbing 319° and International Falls, MN, 182° radials; to International Falls.

* * * * *

6011 United States Area Navigation Routes

* * * * *

T-354 Park Rapids, MN (PKD) to Siren, WI (RZN) [Amended]
Park Rapids, MN (PKD) | VOR/DME | (Lat. 46°53′53.34″ N, long. 095°04′15.21″ W)
BRNRD, MN | WP | (Lat. 46°20′53.81″ N, long. 094°01′33.54″ W)
Siren, WI (RZN) | DME | (Lat. 45°49′13.60″ N, long. 092°22′28.26″ W)

* * * * *

Issued in Washington, DC, on June 22, 2020.
Scott M. Rosenbloom,
Acting Manager, Rules and Regulations Group.

[FR Doc. 2020-13818 Filed 6-26-20; 8:45 am]

BILLING CODE 4910-13-P